DEPARTMENT OF ENERGY

Federal Energy Regulatory Commission

[Docket No. OR12-10-000]

Explorer Pipeline Company; Notice of Amendment to Petition for Declaratory Order

Take notice that on May 17, 2012, pursuant to Rule 215 of the Commission's Rules of Practice and Procedure, 18 CFR 385.215 (2011), Explorer Pipeline Company (Explorer) filed an amendment to its March 23, 2012 Petition to the Federal Energy Regulatory Commission for a declaratory order approving (1) priority capacity and (2) the overall rate structure for Explorer's proposed diluent pipeline extension project (Diluent Extension Project). In its Petition, Explorer described the Diluent Extension Project as involving the construction of a new pipeline segment from Peotone, Illinois to Manhattan, Illinois, where Explorer's pipeline system will interconnect with Enbridge's Southern Lights pipeline. In light of recent industry developments, Explorer states in its amendment that it seeks to make the priority capacity and overall rate structure it requests in its Petition available to shippers who commit to a different interconnection project. Accordingly, Explorer requests that the Commission grant the Petition, subject to this amendment.

Any person desiring to intervene or to protest in this proceeding must file in accordance with Rules 211 and 214 of the Commission's Rules of Practice and Procedure (18 CFR 385.211 and 385.214) on or before 5:00 p.m. Eastern time on the specified comment date. Protests will be considered by the Commission in determining the appropriate action to be taken, but will not serve to make protestants parties to the proceeding. Anyone filing a motion to intervene or protest must serve a copy of that document on the Petitioner.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed docket(s). For assistance with any FERC Online service, please email FERCOnlineSupport@ferc.gov., or call (866) 208-3676 (toll free). For TTY, call (202) 502-8659.

Comment Date: 5:00 p.m. Eastern time on Thursday, June 14, 2012.

Dated: June 5, 2012.
Kimberly D. Bose,
Secretary.

[FR Doc. 2012-14052 Filed 6-8-12; 8:45 am]

BILLING CODE 6717-01-P